DEPARTMENT OF COMMERCE

Foreign-Trade Zones Board

[Order No. 1873]

Approval for Manufacturing Authority; Foreign-Trade Zone 277; Suntech Arizona, Inc. (Solar Panel Manufacturing); Goodyear, AZ

Pursuant to its authority under the Foreign-Trade Zones Act of June 18, 1934, as amended (19 U.S.C. 81a-81u), the Foreign-Trade Zones Board (the Board) adopts the following Order:

Whereas, the Greater Maricopa Foreign Trade Zone, Inc., grantee of FTZ 277, has requested manufacturing authority on behalf of Suntech Arizona, Inc., within FTZ 277, in Goodyear, Arizona (Doc. 26-2012, filed March 27, 2012);

Whereas, notice inviting public comment has been given in the Federal Register (77 FR 20356, 4/4/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application for manufacturing authority under zone procedures within FTZ 277 on behalf of Suntech Arizona, Inc., as described in the application and Federal Register notice, is approved, subject to the FTZ Act and the Board's regulations, including Section 400.13.

Signed at Washington, DC, this 7th day of December 2012.
Paul Piquado,
Assistant Secretary of Commerce for Import Administration, Alternate Chairman, Foreign-Trade Zones Board.
Andrew McGilvray,
Executive Secretary.

[FR Doc. 2012-30844 Filed 12-20-12; 8:45 am]

BILLING CODE 3510-DS-P